DEPARTMENT OF HEALTH AND HUMAN SERVICES

National Institutes of Health

Eunice Kennedy Shriver National Institute of Child Health and Human Development; Amended Notice of Meeting

Notice is hereby given of a change in the meetings of the National Institute of Child Health and Human Development Special Emphasis Panel, June 18, 2015, 8:00 a.m. to June 19, 2015, 6:00 p.m., Hilton Washington Embassy Row, 2015 Massachusetts Ave. NW., Washington, DC 20036, which was published in the Federal Register on April 20, 2015 (80 FR 22214).

The meeting notice is amended to change the date/time/venue from July 13, 2015 at 8:00 a.m. to 6:00 p.m., July 14, 2015, at 8:00 a.m. to 5:00 p.m. to be held at the Embassy Suite Hotel Chevy Chase, MD. The meeting is closed to the public.

Dated: June 5, 2015.
Michelle Trout,
Program Analyst, Office of Federal Advisory Committee Policy.

[FR Doc. 2015-14224 Filed 6-10-15; 8:45 am]

BILLING CODE 4140-01-P